DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), University of Washington, Seattle, WA. The human remains and associated funerary objects were removed from King County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Burke Museum professional staff in consultation with representatives of the Muckleshoot Indian Tribe of the Muckleshoot Reservation, Washington; Puyallup Tribe of the Puyallup Reservation, Washington; Sauk-Suiattle Indian Tribe of Washington; Snoqualmie Tribe, Washington; Suquamish Indian Tribe of the Port Madison Reservation, Washington; and Tulalip Tribes of the Tulalip Reservation, Washington.

In 1920, human remains representing a minimum of one individual were removed from near Laurelhurst in King County, WA, during construction by a steam shovel crew. The human remains were transferred to the King County Coroner's Office and subsequently transferred to the Burke Museum in 1920 (Burke Accn. #1811). No known individual was identified. No associated funerary objects are present.

In 1963, human remains representing a minimum of one individual were removed from the Seattle Tennis Club land, King County, WA, during an excavation of the Seattle Tennis Club. In 1963, the human remains were donated to the Burke Museum by Mr. and Mrs. Ralph W. Nicholson and Dr. Helen Schuster (Burke Accn. #1963-76). No known individual was identified. No associated funerary objects are present.

The above-mentioned human remains have been determined to be Native American based on a variety of sources, including archeological and biological evidence. The human remains were determined to be consistent with Native American morphology, as evidenced either through cranial deformation, bossing of the cranium, presence of wormian bones, or shovel shaped incisors. Information available in the original accession files helped affirm the determination.

Both sites are on the western shore of Lake Washington and near Union Bay. This area falls within the Southern Lushootseed language group of Salish cultures. The Duwamish people primarily occupied this area, specifically the Lake people and the Thluwi'thalbsh band (Swanton 1952:423). In the 1870s, as the City of Seattle developed, the Lake people were pushed out to other areas, including the Muckleshoot, Suquamish, and Tulalip reservations. The Lake people also joined the Snoqualmie people on Lake Sammamish and in the Snoqualmie River drainage (Miller and Blukis Onat 2004:109). Descendants of the Lake people are members of the present-day Muckleshoot Indian Tribe of the Muckleshoot Reservation, Washington; Snoqualmie Tribe, Washington; Suquamish Indian Tribe of the Port Madison Reservation, Washington; and Tulalip Tribes of the Tulalip Reservation, Washington.

In 1930, human remains representing a minimum of two individuals were removed from the Denny Regrade, Seattle, King County, WA. The human remains were discovered with cedar bark over them during construction of the Denny Regrade, and collected by E.S. Harrar of the University of Washington, College of Forestry. The human remains were transferred to the Burke Museum in 1930 (Burke Accn. #2412). No known individuals were identified. No associated funerary objects are present.

In 1930, human remains representing a minimum of two individuals were removed from the bank of the Duwamish River Ox Bow, Georgetown, King County, WA. The human remains were donated to the Burke Museum by Earl Burke and Charles D. McCormick in 1930 (Burke Accn. #2431 and 2432). No known individuals were identified. The 100 associated funerary objects are 96 beads, 2 sea urchin shell fragments, and 2 copper bracelets.

The above-mentioned human remains have been determined to be Native American based on a variety of sources, including archeological and biological evidence. The human remains were determined to be consistent with Native American morphology, as evidenced either through cranial deformation, bossing of the cranium, presence of wormian bones, or shovel shaped incisors. Information available in the original accession files helped affirm the determination. Associated artifacts provided additional contextual information to confirm the human remains were buried consistent with Native American burial practices in the Puget Sound area.

The above-mentioned sites are in an area surrounding Elliott Bay and the Duwamish River. This area falls within the Southern Lushootseed language group of Salish cultures. The Duwamish people primarily occupied this area (Ruby and Brown 1986:72). As per the terms of the 1855 Point Elliot Treaty, the Duwamish were assigned to the Suquamish Reservation (called Fort Kitsap at the time). After 1856, due to violence between whites and Native Americans, as well as the competition over available resources, many Duwamish left the Suquamish Reservation. The Indian agent subsequently assigned the Duwamish to the Muckleshoot Reservation. The Duwamish people are represented by the present-day Muckleshoot Indian Tribe of the Muckleshoot Reservation, Washington; Snoqualmie Tribe, Washington; Suquamish Indian Tribe of the Port Madison Reservation, Washington; and Tulalip Tribes of the Tulalip Reservation, Washington.

In 1963, human remains representing a minimum of one individual were removed from Kenmore, King County, WA. The remains were discovered by children digging near the water, and were transferred to the King County Coroner's Office. In 1963, the human remains were donated to the Burke Museum by Mr. and Mrs. Phillip E. Sharpe (Burke Accn. #1963-71). No known individual was identified. No associated funerary objects are present.

In 1927, human remains representing a minimum of one individual were removed from Bothell, Sammamish Slough, King County, WA. The human remains were found under a tree on the property of Dr. E.B. Fromm and were collected by J.W. There were two iron knives found with the human remains, and two stone tools and one dentalium shell were found in the cranium. In 1927, the human remains and associated funerary objects were donated to the Burke Museum (Burke Accn. #2181). In 1937, the associated funerary objects were discarded by the museum. No known individual was identified. No associated funerary objects are present.

The above-mentioned human remains have been determined to be Native American based on a variety of sources, including archeological and biological evidence. The human remains were determined to be consistent with Native American morphology, as evidenced either through cranial deformation, bossing of the cranium, presence of wormian bones, or shovel shaped incisors. Information available in the original accession files helped affirm the determination.

The above-mentioned human remains and funerary objects were removed from the area surrounding the mouth of the Sammamish River and northeastern Lake Washington. This area falls within the Southern Lushootseed language group of Salish cultures. The Sammamish people primarily occupied this area, (Ruby and Brown 1986, Suttles and Lane 1990, Swanton 1952). The Sammamish people were closely related to the Duwamish people and other tribes in the area. As per the terms of the 1855 Point Elliott Treaty, the Sammamish were assigned to the Tulalip Reservation. Many Sammamish people chose not to relocate to the Tulalip Reservation. The Sammamish people are represented by the present-day Muckleshoot Indian Tribe of the Muckleshoot Reservation, Washington; Snoqualmie Tribe, Washington; Suquamish Indian Tribe of the Port Madison Reservation, Washington; and Tulalip Tribes of the Tulalip Reservation, Washington.

In 1932, human remains representing a minimum of one individual were removed from either southeast of Sea-Tac in King County, WA, or off Holman Road in Seattle, King County, WA. The human remains were transferred to the museum by the King County Coroner's Office in 1932 (Burke Accn. #2602). The accession file lists two sets of remains associated with this record, however, there is only one set present in the collection. This individual does not have documentation as to which location it was removed. No known individual was identified. No associated funerary objects are present.

The above-mentioned human remains have been determined to be Native American based on biological evidence. The human remains were determined to be consistent with Native American morphology.

The human remains were removed either from south of Seattle or northern Seattle. Both of these areas fall within the Southern Lushootseed language group of Salish cultures. The Duwamish people primarily occupied the Seattle area. The Muckleshoot tribe occupied the area south of Seattle. As per the terms of the 1855 Point Elliot Treaty, the Duwamish were assigned to the Suquamish Reservation (called Fort Kitsap at the time). After 1856, due to violence between whites and Native Americans, as well as the competition over available resources, many Duwamish left the Suquamish Reservation. The Duwamish people are represented by the present-day Muckleshoot Indian Tribe of the Muckleshoot Reservation, Washington; Snoqualmie Tribe, Washington; Suquamish Indian Tribe of the Port Madison Reservation, Washington; and Tulalip Tribes of the Tulalip Reservation, Washington.

Officials of the Burke Museum have determined that, pursuant to 25 U.S.C. 3001 (9- 10), the human remains listed above represent the physical remains of nine individuals of Native American ancestry. Officials of the Burke Museum also have determined that, pursuant to 25 U.S.C. 3001 (3)(A), the 100 objects described above are reasonably believed to have been placed with or near individual human remains at the time of death or later as part of the death rite or ceremony. Lastly, officials of the Burke Museum have determined that, pursuant to 25 U.S.C. 3001 (2), there is a relationship of shared group identity that can be reasonably traced between the Native American human remains and associated funerary objects and the Muckleshoot Indian Tribe of the Muckleshoot Reservation, Washington; Snoqualmie Tribe, Washington; Suquamish Indian Tribe of the Port Madison Reservation, Washington; and Tulalip Tribes of the Tulalip Reservation, Washington.

Representatives of any other Indian tribe that believes itself to be culturally affiliated with the human remains or associated funerary objects should contact Dr. Peter Lape, Burke Museum, University of Washington, Box 353010, Seattle, WA 98195-3010, telephone (206) 685-3849, before February 4, 2010. Repatriation of the human remains and associated funerary objects to the Muckleshoot Indian Tribe of the Muckleshoot Reservation, Washington; Snoqualmie Tribe, Washington; Suquamish Indian Tribe of the Port Madison Reservation, Washington; and Tulalip Tribes of the Tulalip Reservation, Washington may proceed after that date if no additional claimants come forward.

The Burke Museum is responsible for notifying the Muckleshoot Indian Tribe of the Muckleshoot Reservation, Washington; Puyallup Tribe of the Puyallup Reservation, Washington; Sauk-Suiattle Indian Tribe of Washington; Snoqualmie Tribe, Washington; Suquamish Indian Tribe of the Port Madison Reservation, Washington; and Tulalip Tribes of the Tulalip Reservation, Washington that this notice has been published.

Dated: November 25, 2009
Sherry Hutt,
Manager, National NAGPRA Program.

[FR Doc. E9-31221 Filed 1-4-10; 8:45 am]

BILLING CODE 4312-50-S